DEPARTMENT OF ENERGY

Federal Energy Regulatory Commission

Combined Notice of Filings #1

October 5, 2009.

Take notice that the Commission received the following electric rate filings:

Docket Numbers: ER98-855-011.

Applicants: Wisconsin Electric Power Company.

Description: Wisconsin Electric Power Company submits amendment to its Triennial Market Power Analysis.

Filed Date: 10/01/2009.

Accession Number: 20091002-0130.

Comment Date: 5 p.m. Eastern Time on Thursday, October 22, 2009.

Docket Numbers: ER98-2270-006.

Applicants: PEI Power Corporation.

Description: PEI Power Corp request for Category 1 Seller classification pursuant to Appendix D-2 of Order No. 697-A.

Filed Date: 09/30/2009.

Accession Number: 20091002-0074.

Comment Date: 5 p.m. Eastern Time on Wednesday, October 21, 2009.

Docket Numbers: ER01-1822-006.

Applicants: Indigo Generation LLC, Larkspur Energy LLC, Wildflower Energy LP.

Description: Wildflower Entities submits supplement to 9/11/09 notification of non material change in status and request for waiver.

Filed Date: 09/30/2009.

Accession Number: 20091002-0125.

Comment Date: 5 p.m. Eastern Time on Wednesday, October 21, 2009.

Docket Numbers: ER04-318-008.

Applicants: Dominion Energy Kewaunee, Inc.

Description: Dominion Energy Kewaunee, Inc. supplement to June 30, 2009 filing of market power analyses for the Central Region.

Filed Date: 10/02/2009.

Accession Number: 20091002-5032.

Comment Date: 5 p.m. Eastern Time on Friday, October 23, 2009.

Docket Numbers: ER05-757-004.

Applicants: Victoria International LTD.

Description: Victoria International LTD submits revised market based rate tariff and request for Category 1 Seller status.

Filed Date: 09/30/2009.

Accession Number: 20091002-0073.

Comment Date: 5 p.m. Eastern Time on Wednesday, October 21, 2009.

Docket Numbers: ER06-613-008.

Applicants: ISO New England Inc. & New England Power Pool.

Description: ISO New England, Inc submits seventh compliance report on the status of stakeholder consideration of the possible implementation in New England of a forward Ten-Minute Spinning Reserve Market.

Filed Date: 10/01/2009.

Accession Number: 20091002-0078.

Comment Date: 5 p.m. Eastern Time on Thursday, October 22, 2009.

Docket Numbers: ER08-1113-006.

Applicants: California Independent System Operator Corporation.

Description: California Independent System Operator Corporation submits Substitute First Revised Sheet No. 1182A to 9/28/09 compliance filing.

Filed Date: 10/01/2009.

Accession Number: 20091002-0127.

Comment Date: 5 p.m. Eastern Time on Thursday, October 22, 2009.

Docket Numbers: ER09-836-002.

Applicants: New York Independent System Operator, Inc.

Description: New York Independent System Operator, Inc submits Fourth Revised Sheet No 276.06 et al. to its FERC Electric Tariff, Original Volume No 2.

Filed Date: 10/01/2009.

Accession Number: 20091002-0201.

Comment Date: 5 p.m. Eastern Time on Thursday, October 22, 2009.

Docket Numbers: ER09-1540-001.

Applicants: Pacific Gas and Electric Company.

Description: Compliance Refund Report Twenty-Sixth Quarterly Filing of Facilities Agreements between PG&E and CCSF.

Filed Date: 10/05/2009.

Accession Number: 20091005-5075.

Comment Date: 5 p.m. Eastern Time on Monday, October 26, 2009.

Docket Numbers: ER09-1621-001.

Applicants: Jersey Central Power & Light Co.

Description: Jersey Central Power & Light Company submits First Revised Service Agreement 2269 to FERC Electric Tariff, Sixth Revised Volume 1.

Filed Date: 10/02/2009.

Accession Number: 20091005-0081.

Comment Date: 5 p.m. Eastern Time on Friday, October 23, 2009.

Docket Numbers: ER09-1624-001.

Applicants: Black Creek Hydro, Inc.

Description: Black Creek Hydro, Inc submits second revised supplement No. 1 to rate schedule FERC No 1.

Filed Date: 10/02/2009.

Accession Number: 20091002-0213.

Comment Date: 5 p.m. Eastern Time on Friday, October 23, 2009.

Docket Numbers: ER09-1642-001.

Applicants: Bangor Hydro-Electric Company.

Description: Bangor Hydro-Electric Company submits service agreements with revised headers indicating the corrected designation.

Filed Date: 10/02/2009.

Accession Number: 20091002-0202.

Comment Date: 5 p.m. Eastern Time on Friday, October 23, 2009.

Docket Numbers: ER09-1656-001.

Applicants: Ashtabula Wind II, LLC.

Description: Ashtabula Wind II, LLC submits a Request for Authorization to Sell Energy and Capacity at Market Based Rates and Waiver of the 60-Day Notice Requirement.

Filed Date: 10/01/2009.

Accession Number: 20091002-0151.

Comment Date: 5 p.m. Eastern Time on Thursday, October 22, 2009.

Docket Numbers: ER09-1747-001.

Applicants: Fox Islands Electric Cooperative Inc.

Description: Amended Petition of Fox Island Electric Cooperative, Inc for Order Accepting Market Based Rate Tariff for Filing and Granting Waivers and Blanket Approvals, effective 11/1/09.

Filed Date: 10/01/2009.

Accession Number: 20091002-0075.

Comment Date: 5 p.m. Eastern Time on Thursday, October 22, 2009.

Docket Numbers: ER09-1773-000.

Applicants: Westar Energy, Inc.

Description: Westar Energy, Inc submits a Notice of Cancellation of a Supplemental Generation with the City of Wamego, Kansas.

Filed Date: 09/30/2009.

Accession Number: 20090930-0102.

Comment Date: 5 p.m. Eastern Time on Wednesday, October 21, 2009.

Docket Numbers: ER09-1777-000.

Applicants: Delmarva Power & Light Company.

Description: Delmarva Power & Light Co submits an executed Interconnection and Mutual Operating Agreement with City of Seaford, Delaware.

Filed Date: 09/30/2009.

Accession Number: 20090930-0101.

Comment Date: 5 p.m. Eastern Time on Wednesday, October 21, 2009.

Docket Numbers: ER09-1778-000.

Applicants: Southwest Power Pool, Inc.

Description: Southwest Power Pool, Inc submits executed Service Agreement for Network Integration Transmission Service etc.

Filed Date: 09/30/2009.

Accession Number: 20091002-0068.

Comment Date: 5 p.m. Eastern Time on Wednesday, October 21, 2009.

Docket Numbers: ER09-1779-000.

Applicants: Midwest ISO & Midwest ISO Transmission Operator, Inc.

Description: Midwest Independent Transmission System Operator, Inc et al. submits Third Second Revised Sheet 2626 et al to FERC Electric Tariff, Fourth Revised Volume 1 to be effective 1/1/10.

Filed Date: 09/30/2009.

Accession Number: 20091002-0069.

Comment Date: 5 p.m. Eastern Time on Wednesday, October 21, 2009.

Docket Numbers: ER09-1780-000.

Applicants: Entergy Services, Inc.

Description: Entergy Operating Companies et al., submits Service Agreement No 558 to FERC Electric Tariff, Third Revised Volume 3.

Filed Date: 09/30/2009.

Accession Number: 20091002-0070.

Comment Date: 5 p.m. Eastern Time on Wednesday, October 21, 2009.

Docket Numbers: ER09-1781-000.

Applicants: California Independent System Operator Corporation.

Description: California Independent System Operator Corporation submits Third Revised Sheet 235 et al., to FERC Electric Tariff, Fourth Replacement Volume 1.

Filed Date: 09/30/2009.

Accession Number: 20091002-0071.

Comment Date: 5 p.m. Eastern Time on Wednesday, October 21, 2009.

Docket Numbers: ER09-1782-000.

Applicants: Entergy Services, Inc.

Description: Entergy Services, Inc submits unexecuted Network Integration Transmission Service Agreement and Network Operating Agreement.

Filed Date: 09/30/2009.

Accession Number: 20091002-0072.

Comment Date: 5 p.m. Eastern Time on Wednesday, October 21, 2009.

Docket Numbers: ER10-5-000.

Applicants: San Diego Gas & Electric Company.

Description: San Diego Gas & Electric Company submits revisions to its Wholesale Distribution Open Access Tariff, et al.

Filed Date: 10/01/2009.

Accession Number: 20091002-0085.

Comment Date: 5 p.m. Eastern Time on Thursday, October 22, 2009.

Docket Numbers: ER10-6-000.

Applicants: Xcel Energy Services, Inc.

Description: Northern States Power Company et al., submits proposed Notice of Cancellation of the Interconnection and Interchange Agreement with Madison Gas and Electric etc.

Filed Date: 10/01/2009.

Accession Number: 20091002-0076.

Comment Date: 5 p.m. Eastern Time on Thursday, October 22, 2009.

Docket Numbers: ER10-7-000.

Applicants: Midwest Independent Transmission System Operator, Inc.

Description: Midwest Independent Transmission System Operator, Inc. et al. submits proposed revisions to the Congestion Management Process of the Joint Operating Agreement etc.

Filed Date: 10/01/2009.

Accession Number: 20091002-0079.

Comment Date: 5 p.m. Eastern Time on Thursday, October 22, 2009.

Docket Numbers: ER10-8-000.

Applicants: Midwest Independent Transmission System Operator, Inc.

Description: Midwest Independent Transmission System Operator, Inc submits Second Revised Sheet 3706 et al. to FERC Electric Tariff, Fourth Revised Volume 1 to be effective 11/1/09.

Filed Date: 10/01/2009.

Accession Number: 20091002-0080.

Comment Date: 5 p.m. Eastern Time on Thursday, October 22, 2009.

Docket Numbers: ER10-9-000.

Applicants: PacifiCorp.

Description: PacifiCorp submits Large Generator Interconnection Agreement Facilities Maintenance Agreement dated 9/17/019.

Filed Date: 10/01/2009.

Accession Number: 20091002-0081.

Comment Date: 5 p.m. Eastern Time on Thursday, October 22, 2009.

Docket Numbers: ER10-10-000.

Applicants: Southern Company Services, Inc.

Description: Southern Companies submits instant Informational Filing in order to update the cost components under Southern Companies Open Access Transmission Tariff to recover the Commission's Annual Charge and Southern Companies etc.

Filed Date: 10/01/2009.

Accession Number: 20091002-0082.

Comment Date: 5 p.m. Eastern Time on Thursday, October 22, 2009.

Docket Numbers: ER10-11-000.

Applicants: PJM Interconnection, L.L.C.

Description: PJM Interconnection, LLC submits Original Sheet 50.01 et al., to FERC Electric Tariff, Sixth Revised Volume 1 to be effective 12/1/09.

Filed Date: 10/01/2009.

Accession Number: 20091002-0083.

Comment Date: 5 p.m. Eastern Time on Thursday, October 22, 2009.

Docket Numbers: ER10-12-000.

Applicants: Florida Power Corporation.

Description: Florida Power Corp submits a Service Agreement for Network Integration Transmission Service and a Network Operating Agreement.

Filed Date: 10/01/2009.

Accession Number: 20091002-0153.

Comment Date: 5 p.m. Eastern Time on Thursday, October 22, 2009.

Docket Numbers: ER10-13-000.

Applicants: Southwest Power Pool, Inc.

Description: Southwest Power Pool, Inc. submits revisions to its Open Access Transmission Tariff.

Filed Date: 10/01/2009.

Accession Number: 20091002-0149.

Comment Date: 5 p.m. Eastern Time on Thursday, October 22, 2009.

Docket Numbers: ER10-14-000.

Applicants: Cheyenne Light Fuel & Power Company.

Description: Cheyenne Light, Fuel and Power Company et al., submit renewable energy sale agreement.

Filed Date: 10/01/2009.

Accession Number: 20091002-0148.

Comment Date: 5 p.m. Eastern Time on Thursday, October 22, 2009.

Docket Numbers: ER10-15-000.

Applicants: PJM Interconnection, L.L.C.

Description: PJM Interconnection, LLC submits Second Revised Sheet 523I.04a et al., to FERC Electric Tariff, Sixth Revised Volume 1 to be effective 12/1/09.

Filed Date: 10/01/2009.

Accession Number: 20091002-0150.

Comment Date: 5 p.m. Eastern Time on Thursday, October 22, 2009.

Docket Numbers: ER10-16-000.

Applicants: Commonwealth Edison Company.

Description: Commonwealth Edison Company submits Seventh Revised Sheet 314A.01 et al., to FERC Electric Tariff, Sixth Revised Volume 1 to be effective 12/1/09.

Filed Date: 10/01/2009.

Accession Number: 20091002-0152.

Comment Date: 5 p.m. Eastern Time on Thursday, October 22, 2009.

Docket Numbers: ER10-17-000.

Applicants: Southern California Edison Company.

Description: Southern California Edison Company submits Service Agreement 179 et al., First Revised Sheet 18 et al., to FERC Electric Tariff, First Revised Vol. 5.

Filed Date: 10/02/2009.

Accession Number: 20091002-0181.

Comment Date: 5 p.m. Eastern Time on Friday, October 23, 2009.

Docket Numbers: ER10-18-000.

Applicants: Elm Road Services LLC.

Description: Elm Road Services, LLC submits revision to the Power Purchase Agreement Providing for Sales of Test Power.

Filed Date: 10/02/2009.

Accession Number: 20091002-0182.

Comment Date: 5 p.m. Eastern Time on Friday, October 23, 2009.

Docket Numbers: ER10-19-000.

Applicants: Midwest Independent Transmission System Operator, Inc.

Description: Midwest Independent Transmission System Operator, Inc. submits Facilities Construction Agreement etc.

Filed Date: 10/02/2009.

Accession Number: 20091002-0183.

Comment Date: 5 p.m. Eastern Time on Friday, October 23, 2009.

Docket Numbers: ER10-20-000.

Applicants: Sierra Pacific Energy, LP.

Description: Sierra Pacific Energy, LP submits a notice of termination of market-based rate authority.

Filed Date: 10/02/2009.

Accession Number: 20091002-0214.

Comment Date: 5 p.m. Eastern Time on Friday, October 23, 2009.

Docket Numbers: ER10-21-000.

Applicants: Southwest Power Pool, Inc.

Description: Southwest Power Pool, Inc. submits revised pages to its open access transmission tariff.

Filed Date: 10/02/2009.

Accession Number: 20091002-0212.

Comment Date: 5 p.m. Eastern Time on Friday, October 23, 2009.

Docket Numbers: ER10-25-000.

Applicants: Xcel Energy Services, Inc.

Description: Xcel Energy Services, Inc. submits notice of termination of Umbrella Service Agreements for the Sale, Assignment or Transfer of Transmission Rights.

Filed Date: 10/02/2009.

Accession Number: 20091002-0211.

Comment Date: 5 p.m. Eastern Time on Friday, October 23, 2009.

Take notice that the Commission received the following electric securities filings:

Docket Numbers: ES09-45-001.

Applicants: Entergy Mississippi, Inc., Entergy Services, Inc., Entergy Arkansas, Inc., Entergy Louisiana, LLC, Entergy Gulf States Louisiana, L.L.C., System Energy Resources, Inc., Entergy Texas, Inc.

Description: Supplemental Information of Entergy Services, Inc., et al.

Filed Date: 10/02/2009.

Accession Number: 20091002-5106.

Comment Date: 5 p.m. Eastern Time on Tuesday, October 13, 2009.

Docket Numbers: ES10-1-000.

Applicants: AEP GENERATING CO, AEP Texas North Company, AEP Texas Central Company, Appalachian Power Company, Indiana Michigan Power Company, Kentucky Power Company, Kingsport Power Company, Public Service Company of Oklahoma, Southwestern Electric Power Company, Wheeling Power Company.

Description: Application Under section 204 of the Federal Power Act for Authorization to Issue Securities of AEP GENERATING COMPANY, et al.

Filed Date: 10/01/2009.

Accession Number: 20091001-5097.

Comment Date: 5 p.m. Eastern Time on Thursday, October 22, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-24526 Filed 10-9-09; 8:45 am]

BILLING CODE 6717-01-P